DEPARTMENT OF HOMELAND SECURITY

Transportation Security Administration

Revision of Agency Information Collection Activity Under OMB Review: Airport Security Part 1542

AGENCY: Transportation Security Administration, DHS.

ACTION: 30-Day notice.

SUMMARY: This notice announces that the Transportation Security Administration (TSA) has forwarded the Information Collection Request (ICR), Office of Management and Budget (OMB) control number 1652-0002, abstracted below to OMB for review and approval of a revision of the currently approved collection under the Paperwork Reduction Act (PRA). The ICR describes the nature of the information collection and its expected burden. The collection includes requirements for airport operators to submit certain information to TSA, as well as to maintain and update records to ensure compliance with security provisions.

DATES: Send your comments by June 6, 2018. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on September 7, 2017, 82 FR 42356.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Airport Security Part 1542.

Type of Request: Extension of a currently approved collection.

OMB Control Number: 1652-0002.

Forms(s): NA.

Affected Public: Airport operators.

Abstract: The information collection is used to determine compliance with 49 CFR part 1542 and to ensure passenger safety and security by monitoring airport operator security procedures. The following information collections and other recordkeeping requirements with which respondent covered airport operators must comply fall under this OMB control number: (1) Development of an Airport Security Program (ASP) and submission to TSA; (2) as applicable, development of airport operator requested or TSA-required ASP amendments, submission to TSA, and implementation; (3) collection of data necessary to complete a criminal history records check (CHRC) for those individuals with unescorted access authority to a Security Identification Display Area (SIDA); (4) submission to TSA of identifying information about individuals to whom the airport operator has issued identification media, such as name, address, and country of birth, in order for TSA to conduct a Security Threat Assessment (STA); (5) information collection and recordkeeping requirements associated with airport operator compliance with Security Directives (SDs) issued pursuant to the regulation; and (6) watch list matching of individuals subject to TSA's regulatory requirements against government watch lists.

TSA is revising this information collection by modifying the type of information collected. TSA previously collected information relating to a since-discontinued requirement that airport operators verify the employment histories of certain applicants, TSA has relieved the airport operators of this burden.

Number of Respondents: 438.

Estimated Annual Burden Hours: An estimated 1,786,924 hours annually.¹

¹ Since the publication of the 60-day notice, the estimate has been updated from 1,618,268 to 1,786,924 annual burden hours

Dated: May 1, 2018.
Christina A. Walsh,
TSA Paperwork Reduction Act Officer, Office of Information Technology.

[FR Doc. 2018-09626 Filed 5-4-18; 8:45 am]

BILLING CODE 9110-05-P